DEPARTMENT OF THE INTERIOR

Bureau of Land Management

[A2407-014-004-065516, #O2509-014-004-125222]

Decision Declining To Adopt Proposed Notice to Lessees No. 5

AGENCY: Bureau of Land Management, Interior.

ACTION: Notice of decision.

SUMMARY: After reconsidering proposed Notice to Lessees No. 5 (NTL-5) based on the Executive Order 14154, “Unleashing American Energy” (Jan. 20, 2025), and additional direction from the Secretary of the Interior, the Bureau of Land Management (BLM) has decided not to publish a final NTL-5 as was first proposed in the Federal Register on November 14, 2024.

DATES: This decision takes effect on December 22, 2025.

FOR FURTHER INFORMATION CONTACT: John Ajak, Acting Division Chief, Fluid Minerals Division, telephone: (505) 549-9654, email: jajak@blm.gov, or by mail to Bureau of Land Management, 1849 C St. NW, Room 5633, Washington, DC 20240.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: On November 14, 2024, the BLM published proposed NTL-5, “Clarifying the Implementation of Certain BLM Oil and Gas Measurement Regulations” (89 FR 90037). Proposed NTL-5 would have clarified when and how operators are expected to comply with certain requirements in the oil and gas measurement regulations in 43 CFR part 3170, which became effective in January 2017. The BLM issued the proposed NTL-5 pursuant to 43 CFR 3164.2, which authorizes the BLM to issue notices to lessees when necessary to implement the BLM's oil and gas regulations.

However, in compliance with Executive Order 14154, “Unleashing American Energy,” which directs Federal agencies to identify any rules or other actions that “impose an undue burden on the identification, development, or use of domestic energy resources,” and in compliance with additional direction from the Secretary of the Interior, the BLM has reconsidered the proposed notice and now declines to publish a final version of NTL-5. This withdrawal decision is being issued to reduce compliance burdens for operators.

(Authority: 43 CFR 3164.2.)

Tina Roberts-Ashby,
Acting Assistant Director, Energy, Minerals, and Realty Management.

[FR Doc. 2025-23561 Filed 12-19-25; 8:45 am]

BILLING CODE 4331-29-P